DEPARTMENT OF ENERGY

Federal Energy Regulatory Commission

[Docket No. EL12-28-000]

Xcel Energy Services Inc., Northern States Power Company v. American Transmission Company, LLC; Notice of Complaint

Take notice that on February 14, 2012, pursuant to section 206 of the Federal Power Act and Rule 206 of the Rules of Practice and Procedure of the Federal Energy Regulatory Commission (Commission), Xcel Energy Services Inc. (XES) and Northern States Power Company (NSPW) collectively filed a formal complaint against American Transmission Company, LLC (ATC) regarding the construction and ownership of a proposed 145 mile, 345 kV electric transmission line connecting NSPW's facilities near La Crosse, Wisconsin, with ATC's facilities near Madison, Wisconsin. XES and NSPW request that the Commission (1) find that ATC has not compiled with express terms and conditions of the Transmission Owners Agreement and the Midwest ISO Tariff and (2) direct ATC to enter into negotiations with XES and NSPW to develop final terms and conditions for the shared ownership and construction of the La Cross-Madison Line.

XES and NSPW certify that copies of the complaint were served on the contacts for ATC as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on March 5, 2012.

Dated: February 15, 2012.
Kimberly D. Bose,
Secretary.

[FR Doc. 2012-4073 Filed 2-21-12; 8:45 am]

BILLING CODE 6717-01-P